DEPARTMENT OF TRANSPORTATION

Federal Railroad Administration

Petition for Special Approval of Alternate Standard

In accordance with Part 238.21 of Title 49 Code of Federal Regulations (CFR), notice is hereby given that the Federal Railroad Administration (FRA) received a request for approval of an Alternate Standard of compliance with certain requirements of its safety standards. The individual petition is described below, including the party seeking relief, the regulatory provisions involved, the nature of the relief being requested, and the petitioner's arguments in favor of relief.

Long Island Railroad and Metro-North Railroad (Special Approval Petition Docket Number FRA-2004-17099)

The Long Island Railroad (LIRR) and Metro-North Railroad (MNCW) further identified herein as the railroads, seeks approval to amend a previously granted alternate standard to be used in accordance with the Passenger Equipment Safety Standards, 49 CFR part 238, section 309, periodic maintenance of MU locomotive equipment brakes. Section 309(b)(2) requires periodic brake equipment maintenance to be performed at an interval not to exceed every 1,104 days. The railroads were granted an alternate standard July 4, 2004, for M7-MU locomotives that required that periodic brake equipment maintenance be performed at an interval not to exceed every 1,840 days.

The railroads most recent request dated September 12, 2008, states that the M7 MU locomotive tests are near their completion and the railroad requests to extend the testing beyond the 1,840 days and perform age exploration similar to the testing of electronic brake systems on more traditional freight and passenger locomotives. The M7 air brake system is integrated with the propulsion system, and a full pneumatic back up of the emergency brake application function is available through the emergency brake valve and conductors valve. The M7 utilizes various systems to monitor, diagnose, and report brake equipment functions to a centralized diagnostic system on board the equipment. At the original submission, the railroads provided required technical documentation, a Preliminary Hazard Analysis, Failure Modes and Effect Analysis, Maintainability Analysis, and has served a copy of the petition on designated representatives of its employees. A list of the names and addresses of the persons served is available at the DOT docket site contained in this notice.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-17099) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on October 22, 2008.
Grady C. Cothen, Jr.,
Deputy Associate Administrator for Safety Standards and Program Development.

[FR Doc. E8-25768 Filed 10-28-08; 8:45 am]

BILLING CODE 4910-06-P